Title 3—

The President

Proclamation 7878 of April 1, 2005

National Child Abuse Prevention Month, 2005

By the President of the United States of America

A Proclamation

Our Nation has a responsibility to build a safe and nurturing society so that our young people can realize their full potential. During National Child Abuse Prevention Month, we renew our commitment to preventing child abuse and rededicate ourselves to working together to ensure that all children can have a bright and hopeful future.

Creating a protective environment for our young people requires the shared commitment of individuals, families, and faith-based and community organizations. Parents and family members are the first and most important influence in a child's life. A safe and stable family can provide children with a foundation of love and security that encourages positive growth and development. Federal, State, and local government officials can also improve the lives of our young people by doing all they can to keep children safe from harm.

Together, we can protect our future generations so that they can realize the opportunities of our Nation. By providing help and hope to our young people, we will build a better and more compassionate world for our children and grandchildren.

NOW, THEREFORE, I, GEORGE W. BUSH, President of the United States of America, by virtue of the authority vested in me by the Constitution and laws of the United States, do hereby proclaim April 2005 as National Child Abuse Prevention Month. I encourage all Americans to protect our children from abuse and neglect and to help ensure that every child can grow up in a secure and loving environment.

IN WITNESS WHEREOF, I have hereunto set my hand this first day of April, in the year of our Lord two thousand five, and of the Independence of the United States of America the two hundred and twenty-ninth.

B

[FR Doc. 05-6904

Filed 4-4-05; 10:49 am]

Billing code 3195-01-P